DEPARTMENT OF COMMERCE

Economics & Statistics Administration

Measuring Innovation in the 21st Century Economy Advisory Committee; Notice of Public Meeting

AGENCY: Economics & Statistics Administration, Commerce.

ACTION: Notice of public meeting.

SUMMARY: The Department of Commerce (DOC) is announcing the second meeting of the Measuring Innovation in the 21st Century Economy Advisory Committee. The meeting is open to the public. Seating at the meeting will be on a first-come, first-served basis. Interested parties may register on the Advisory Committee Web site: http://www.innovationmetrics.gov. Pre-registration is encouraged but not required.

DATES: The meeting will be held on September 12, 2007, from approximately 9 a.m. to noon. On-site sign-in begins at 8:30 a.m.

ADDRESSES: The meeting will be held in the Auditorium of the U.S. Department of Commerce, 1401 Constitution Avenue, NW., Washington, DC 20230. Attendees should arrive at the main building entrance on 14th Street, NW., between Pennsylvania and Constitution Avenues. Attendees must present a government-issued picture ID and pass through metal detection equipment.

FOR FURTHER INFORMATION CONTACT: Elizabeth “E.R.” Anderson, Deputy Under Secretary for Economic Affairs, U.S. Department of Commerce, 1401 Constitution Avenue, NW., Washington, DC 20230, telephone: 202-482-3727, facsimile: 202-482-0432; or Sabrina Montes, Room 4858, telephone: 202-482-6495, facsimile: 202-482-0325.

SUPPLEMENTARY INFORMATION: In accordance with the provisions of the Federal Advisory Committee Act, 5 U.S.C. App. 2, and the General Services Administration rule on Federal Advisory Committee Management, 41 CFR part 101-6, the Secretary of Commerce determined that the establishment of the Measuring Innovation in the 21st Century Economy Advisory Committee (the “Committee”) was in the public interest in connection with the performance of duties imposed on the Department by law.

The Committee will advise the Secretary on new or improved measures of innovation to help explain how innovation occurs in different sectors of the economy, how it is diffuses, and how it impacts economic growth and productivity. The Committee consists of fifteen members from business and academia appointed by the Secretary of Commerce. The Committee functions solely as an advisory body, in compliance with the provisions of the Federal Advisory Committee Act. The Charter was filed under the Federal Advisory Committee Act. Additional information on the Advisory Committee on Measuring Innovation in the 21st Century Economy can be found online at: http://www.innovationmetrics.gov.

The meeting is physically accessible to people with disabilities. Individuals requiring special accommodations at this meeting including sign language interpretation or other auxiliary aids should contact Sabrina Montes at the address listed under FOR FURTHER INFORMATION CONTACT at least 5 business days prior to the meeting so that appropriate arrangements can be made. The meeting will be transcribed and the transcription will be made public on the Committee Web site within one month of the meeting date.

Elizabeth “E.R.” Anderson,
Deputy Under Secretary for Economic Affairs.

[FR Doc. E7-15167 Filed 8-3-07; 8:45 am]

BILLING CODE 3510-06-P